NUCLEAR WASTE TECHNICAL REVIEW BOARD

U.S. Nuclear Waste Technical Review Board Meeting; Las Vegas, NV

Board Meeting: January 16, 2008—Las Vegas, Nevada; The U.S. Nuclear Waste Technical Review Board will meet to discuss U.S. Department of Energy activities related to the possible development of a repository for spent nuclear fuel and high-level radioactive waste at Yucca Mountain in Nevada.

Pursuant to its authority under section 5051 of Public Law 100-203, Nuclear Waste Policy Amendments Act of 1987, the U.S. Nuclear Waste Technical Review Board will meet in Las Vegas, Nevada, to review U.S. Department of Energy (DOE) activities related to the proposed repository for spent nuclear fuel and high-level radioactive waste at Yucca Mountain in Nevada. Among the issues that will be discussed are transportation of the wastes, the potential tunnel environments after repository closure, and waste-package corrosion issues. The Board was charged in the Nuclear Waste Policy Amendments Act of 1987 with conducting an independent review of the technical and scientific validity of DOE activities related to the implementation of the Nuclear Waste Policy Act, including disposing of, packaging, and transporting spent nuclear fuel and high-level radioactive waste.

The meeting will be held in the Lake Mead/Red Rock/Mt. Charleston Ballroom on the 17th floor of the Marriott Suites Convention Center Hotel; 325 Convention Center Drive; Las Vegas, Nevada 89109; (tel) 702-650-2000; (fax) 702-650-9466.

A meeting agenda will be available on the Board's Web site (http://www.nwtrb.gov) approximately one week before the date of the workshop. The agenda also may be obtained by telephone request at that time. The meeting will be open to the public, and opportunities for public comment will be provided.

The meeting will be called to order by Board Chairman B. John Garrick at 8:00 a.m., followed by a program overview and an update of DOE transportation activities. Those presentations will be followed by discussions of DOE's thermal strategy for emplacing waste packages and plans for long-term corrosion testing. The discussions will resume after lunch with presentations on the effects of temperature on the composition of soluble salts in dust and on waste from degradation analysis.

Time will be set aside at the end of the day for public comments. Those wanting to speak are encouraged to sign the “Public Comment Register” at the check-in table. A time limit may have to be set on individual remarks, but written comments of any length may be submitted for the record.

Transcripts of the meeting will be available on the Board's Web site, by e-mail, on computer disk, and on a library-loan basis in paper format from Davonya Barnes of the Board's staff no later than January 30, 2008.

A block of rooms has been reserved for meeting attendees at the Marriott Suites Convention Center Hotel. When making a reservation, please state that you will be attending the Nuclear Waste Technical Review Board meeting. Reservations should be made by December 28, 2007, to ensure receiving the workshop rate. To make reservations call 800-228-9290 or access hotel reservations online at http://marriott.com/LASST?groupCode=NWTNWTA=resvlink.

For more information, contact Karyn Severson, NWTRB External Affairs; 2300 Clarendon Boulevard, Suite 1300; Arlington, VA 22201-3367; (tel) 703-235-4473; (fax) 703-235-4495.

Dated: December 12, 2007.
William D. Barnard,
Executive Director, Nuclear Waste Technical Review Board.

[FR Doc. 07-6061 Filed 12-14-07; 8:45 am]

BILLING CODE 6820-AM-M